DEPARTMENT OF VETERANS AFFAIRS

[OMB Control No. 2900-0110]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 19, 2006.

For Further Information or a Copy of the Submission Contact: Denise McLamb, Records Management Service (005G2), Department of Veterans Affairs, 810 Vermont Avenue, NW., Washington, DC 20420, (202) 565-8374, FAX (202) 565-6950 or e-mail: denise.mclamb@mail.va.gov. Please refer to “OMB Control No. 2900-0110.”

Send comments and recommendations concerning any aspect of the information collection to VA's Desk Officer, OMB Human Resources and Housing Branch, New Executive Office Building, Room 10235, Washington, DC 20503 (202) 395-7316. Please refer to “OMB Control No. 2900-0110” in any correspondence.

SUPPLEMENTARY INFORMATION: Title: Application for Assumption Approval and/or Release from Personal Liability to the Government on a Home Loan, VA Form 26-6381.

OMB Control Number: 2900-0110.

Type of Review: Extension of a currently approved collection.

Abstract: Veteran-borrows complete VA Form 26-6381 to sell their home by assumption rather than requiring the purchaser to obtain their own financing to pay off the VA guaranteed home loan. In order for the veteran-borrower to be release from personal liability, the loan must be current and the purchaser must assume all of the veteran's liability to the Government and to the mortgage holder and meet the credit and income requirements.

An agency may not conduct or sponsor, and a person is not required to respond to a collection of information unless it displays a currently valid OMB control number. The Federal Register Notice with a 60-day comment period soliciting comments on this collection of information was published on January 31, 2006 at pages 5120-5121.

Affected Public: Individuals or households, Business or other for profit.

Estimated Annual Burden: 500 hours.

Estimated Average Burden Per Respondent: 10 minutes.

Frequency of Response: One-time.

Estimated Number of Respondents: 3,000.

By direction of the Secretary:
Dated: May 4, 2006.
Denise McLamb,
Program Analyst, Records Management Service.

[FR Doc. E6-7542 Filed 5-17-06; 8:45 am]

BILLING CODE 8320-01-P